DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. as indicated below:

Subcommittee for | Date(s) | Location
Mental Hlth & Behav Sci-A | May 5, 2008 | L'Enfant Plaza Hotel.
Respiration | May 9, 2008 | Marriott Crystal City Hotel.
Endocrinology-A&B | May 12-13, 2008 | L'Enfant Plaza Hotel.
Neurobiology-E | May 15, 2008 | L'Enfant Plaza Hotel.
Hematology | May 16, 2008 | L'Enfant Plaza Hotel.
Cardiovascular Studies | May 19, 2008 | The Westin.
Immunology-A | May 20, 2008 | Marriott Crystal City.
Cellular & Molecular Medicine | May 21, 2008 | *VA Central Office.
Clinical Research Program | May 22, 2008 | Marriott Crystal City.
Infectious Diseases-A | May 23, 2008 | The Westin.
Infectious Diseases-B | May 28, 2008 | Marriott Crystal City.
Mental Hlth & Behav Sci-B | May 29, 2008 | Marriott Crystal City.
Neurobiology-C | June 2-3, 2008 | St. Gregory Hotel.
Epidemiology | June 3, 2008 | *VA Central Office.
Nephrology | June 6, 2008 | L'Enfant Plaza Hotel.
Neurobiology-A | June 9, 2008 | *VA Central Office.
Neurobiology-D | June 9, 2008 | The Westin.
Surgery | June 9, 2008 | The Westin.
Gastroenterology | June 12, 2008 | The Westin.
Oncology | June 12-13 2008 | L'Enfant Plaza Hotel.
Immunology-B | June 13, 2008 | L'Enfant Plaza Hotel.

The addresses of the hotels and VA Central Office are:

L'Enfant Plaza Hotel, 480 L'Enfant Plaza, SW., Washington, DC; Marriott Crystal City, 1999 Jefferson Davis Highway, Arlington, VA; St. Gregory Hotel, 2033 M Street, NW., Washington, DC; VA Central Office, 1722 Eye Street, NW., Washington, DC; The Westin Washington DC City Center Hotel, 1400 M Street, NW., Washington, DC.

*Teleconference

The purpose of the Merit Review Board is to provide advice on the scientific quality, budget, safety and mission relevance of investigator research proposals submitted for VA merit review consideration, Proposals submitted for review by the Board involve a wide range of medical specialties within the general areas of biomedical, behavioral and clinical science research.

The subcommittee meetings will be open to the public for approximately one hour at the start of each meeting to discuss the general status of the program. The remaining portion of each subcommittee meeting will be closed to the public for the review, discussion, and evaluation of initial and renewal projects.

The closed portion of each meeting involves discussion, examination, reference to staff and consultant critiques of research protocols. During this portion of each subcommittee meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C., 552b(c) (6) and (9)(8). Those who plan to attend or would like to obtain a copy of minutes of the subcommittee meetings and rosters of the members of the subcommittees should contact LeRoy G. Frey, PhD, Chief, Program Review (121F), Department of Veterans Affairs, 810 Vermont Avenue, NW., Washington, DC 20420 at (202) 254-0288.

Dated: March 31 2008.
By direction of the Secretary.
E. Philip Riggin,
Committee Management Officer.

[FR Doc. E8-7150 Filed 4-7-08; 8:45 am]

BILLING CODE 8320-01-M